DEPARTMENT OF ENERGY

Environmental Management Site-Specific Advisory Board, Idaho National Laboratory

AGENCY: Department of Energy.

ACTION: Notice of open meeting.

SUMMARY: This notice announces a meeting of the Environmental Management Site-Specific Advisory Board (EM SSAB), Idaho National Laboratory. The Federal Advisory Committee Act (Pub. L. 92-463, 86 Stat. 770) requires that public notice of this meeting be announced in the Federal Register.

DATES: Tuesday, May 22, 2007; 8 a.m.-5 p.m. Wednesday, May 23, 2007; 7:30 a.m.-2:30 p.m.

Opportunities for public participation will be held Tuesday, May 22, from 11:45 a.m. to 12:45 p.m. and 2:45 to 3 p.m.; and Wednesday, May 23, from 11:45 a.m. to 12:45 p.m.

These times are subject to change; please contact the Federal Coordinator (below) for confirmation of times prior to the meeting.

ADDRESSES: AmeriTel Inn, 645 Lindsey Boulevard, Idaho Falls, Idaho 83401.

FOR FURTHER INFORMATION CONTACT: Robert L. Pence, Federal Coordinator, Department of Energy, Idaho Operations Office, 1955 Fremont Avenue, MS-1203, Idaho Falls, ID 83415. Phone (208) 526-6518; Fax (208) 526-8789 or e-mail: pencerl@id.doe.gov or visit the Board's Internet home page at: http://www.inlemcab.org.

SUPPLEMENTARY INFORMATION: Purpose of the Board: The purpose of the Board is to make recommendations to DOE in the areas of environmental restoration, waste management, and related activities.

Tentative Topics (agenda topics may change up to the day of the meeting; please contact Robert L. Pence for the most current agenda):

• Reprocessing History

• Management of Employee Risk

• Operable Unit 03-14—Progress Update

• Power Burst Facility Evaluation/Cost Analysis Philosophy

• Engineering Test Reactor—Decontamination and Decommissioning Update

• Test Area North—Site Tour—Visualize Cleanup Progress

• Contractor Introductions and Project Overview—PIT-9 Decontamination and Decommissioning Update

Public Participation: The meeting is open to the public. Written statements may be filed with the Board either before or after the meeting. Individuals who wish to make oral presentations pertaining to agenda items should contact Robert L. Pence at the address or telephone number listed above. The request must be received five days prior to the meeting and reasonable provision will be made to include the presentation in the agenda. The Deputy Designated Federal Officer is empowered to conduct the meeting in a fashion that will facilitate the orderly conduct of business. Individuals wishing to make public comment will be provided a maximum of five minutes to present their comments. This notice is being published less than 15 days before the date of the meeting due to programmatic issues that had to be resolved.

Minutes: The minutes of this meeting will be available for public review and copying at the U.S. Department of Energy's Freedom of Information Public Reading Room, 1E-190, Forrestal Building, 1000 Independence Avenue, SW., Washington, DC 20585 between 9 a.m. and 4 p.m., Monday through Friday, except Federal holidays. Minutes will also be available by writing to Robert L. Pence, Federal Coordinator, at the address and phone number listed above.

Issued at Washington, DC, on May 7, 2007.
Rachel Samuel,
Deputy Advisory Committee Management Officer.

[FR Doc. E7-9084 Filed 5-10-07; 8:45 am]

BILLING CODE 6450-01-P